ENVIRONMENTAL PROTECTION AGENCY

[EPA-HQ-RCRA-2015-0836; FRL-9943-12-Region 3]

Proposed Information Collection Request; Comment Request; Collection of Information on Anaerobic Digestion Facilities Processing Wasted Food To Support EPA's Sustainable Food Management Programs

AGENCY: Environmental Protection Agency (EPA).

ACTION: Notice.

SUMMARY: The Environmental Protection Agency is planning to submit an information collection request (ICR), “Collection of Information on Anaerobic Digestion Facilities Processing Wasted Food to support EPA's Sustainable Food Management Programs” (EPA ICR No. 2533.01, OMB Control No. 2050-NEW) to the Office of Management and Budget (OMB) for review and approval in accordance with the Paperwork Reduction Act (44 U.S.C. 3501 et seq.). Before doing so, EPA is soliciting public comments on specific aspects of the proposed information collection as described below. This is a request for approval of a new collection. An Agency may not conduct or sponsor, and a person is not required to respond to, a collection of information unless it displays a currently valid OMB control number.

DATES: Comments must be submitted on or before May 2, 2016.

ADDRESSES: Submit your comments, referencing Docket ID No. EPA-HQ-RCRA-2015-0836 online using www.regulations.gov or by mail to: EPA Docket Center, Environmental Protection Agency, Mail Code 228221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Melissa Pennington, U.S. Environmental Protection Agency, Region 3, Mail Code 3LC40, 1650 Arch Street, Philadelphia, PA 19103; telephone number: 215-814-3372; fax number: 215-814-3114; email address: pennington.melissa@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA's Office of Land and Emergency Management Sustainable Food Management (SFM) program is designed to advance sustainable food management practices throughout the United States by preventing and diverting wasted food from landfills. The focal point of the SFM program is the Food Recovery Challenge in which organizations pledge to improve their sustainable food management practices. The success of the SFM program efforts to divert wasted food from landfills requires sufficient capacity to process the diverted materials which includes composting and anaerobic digestion operations. In addition to increasing opportunity to process wasted food diverted from the municipal solid waste stream, anaerobic digesters achieve social, environmental and economic benefits, such as generation of renewable energy, reduction of methane emissions, and opportunities to improve soil health through the production of soil amendments. The SFM program supports these efforts by educating state and local governments and communities about the benefits of wasted food diversion. The SFM program also builds partnerships with state agencies and other strategic partners interested in developing organics recycling capacity and provides tools to assist organizations in developing anaerobic digestion (AD) projects.

This information collection consists of a request for data not currently available on AD facilities processing wasted food as well as a review and update of the existing SFM AD facility inventory. Correspondence will include a questionnaire through which respondents can provide new information on their AD projects and an update to the existing AD facility inventory, if appropriate. This will be the first time the SFM program has formally collected data for this inventory.

Form numbers: None.

Respondents/affected entities: State Liaisons, Industry Representatives, Project Owner/Operators, and Other Stakeholders (e.g. non-profits).

Respondent's obligation to respond: Voluntary.

Estimated number of respondents: 460 (total).

Frequency of response: Annually.

Total estimated burden: 231 hours (per year). Burden is defined at 5 CFR 1320.03(b).

Total estimated cost: $16,972 (per year), includes $0 annualized capital or operation & maintenance costs.

Changes in estimates: There are no changes in burden estimates as this is a new ICR.

Dated: February 18, 2016.
John A. Armstead,
Director, Land and Chemicals Division, EPA Region III.

[FR Doc. 2016-04603 Filed 3-1-16; 8:45 am]

BILLING CODE 6560-50-P